DEPARTMENT OF TRANSPORTATION

Coast Guard

[USCG-2000-6974]

National Preparedness for Response Exercise Program (PREP)

AGENCY: Coast Guard, DOT.

ACTION: Request for comments on PREP triennial exercise schedule for 2000, 2001 and 2002.

SUMMARY: The Coast Guard, the Environmental Protection Agency (EPA), the Research and Special Programs Administration (RSPA) and the Minerals Management Service (MMS), in concert with the states, the oil industry and concerned citizens, developed the Preparedness for Response Exercise Program (PREP). This notice announces the PREP triennial cycle, 2000-2002, requests comments from the public, and requests industry participants to volunteer for scheduled PREP Area exercises.

DATES: Comments and related material must reach the Docket Management Facility on or before May 8, 2000.

ADDRESSES: To make sure your comments and related material are not entered more than once in the docket, please submit them by only one of the following methods:

(1) By mail to the Docket Management Facility, (USCG-2000-6974), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION CONTACT: For questions on this notice and general information regarding the PREP program and the schedule, contact Mr. Robert Pond, Office of Response, Plans and Preparedness Division (G-MOR-2), U.S. Coast Guard Headquarters, 2100 2nd St. SW., Washington, DC 20593-0001, telephone 202-267-6603, fax 202-267-4065 or e-mail rpond@comdt.uscg.mil. For questions on viewing, or submitting material to, the docket, contact Ms. Dorothy Walker, Chief, Dockets, Department of Transportation, telephone 202-366-9329.

SUPPLEMENTARY INFORMATION: The PREP Area exercise schedule and exercise design manuals are available on the Internet at http://www.uscg.mil/hq/g-m/gmhome.htm (see index, then oil response). To obtain a hard copy of the exercise design manual, contact Ms. Melanie Barber at the Research and Special Programs Administration, Office of Pipeline Safety, at 202-366-4560. The 1994 PREP Guidelines booklet is available at no cost by writing or faxing the TASC Dept Warehouse, 3341 Q 75th Avenue, Landover, MD 20785, fax: 301-386-5394. The stock number of the manual is USCG-X0191. Please indicate the quantity when ordering. Quantities are limited to 10 per order.

Request for Comments

We encourage you to participate by submitting comments and related material. If you do so, please include your name and address, identify the docket number [USCG-2000-6974], indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this rule in view of them.

Background and Purpose

The Coast Guard, EPA, RSPA and MMS developed the National Preparedness for Response Exercise Program (PREP) to provide guidelines for compliance with the Oil Pollution Act of 1990 (OPA 90) pollution response exercise requirements (33 U.S.C. 1321(j)). The guiding principles for PREP distinguish between internal and external exercises. Internal exercises are conducted within the plan holder's organization. External exercises extend beyond the plan holder's organization to involve other members of the response community. External exercises are separated into two categories: (1) Area exercises, and (2) Government-initiated unannounced exercises. These exercises are designed to evaluate the entire response mechanism in a given area to ensure adequate pollution response preparedness.

Since 1994, the USCG, EPA, MMS, and Office of Pipeline Safety (OPS) have published a triennial schedule of Area exercises. In short, the Area exercises involve the entire response community (Federal, State, local, and industry participants) and therefore, require more extensive planning than other oil spill response exercises. The PREP Guidelines describe all of these exercises in more detail. This notice announces the next triennial schedule of Area exercises.

If a company wants to volunteer for an Area exercise, a company representative may call either the Coast Guard or EPA On-Scene Coordinator (OSC) where the exercise is scheduled. Alternatively, if a company is interested in participating in an exercise where Coast Guard is the OSC, a representative may call Mr. Robert Pond at 202-267-6603, and he can facilitate scheduling the volunteer. Although either method will provide the same result, contact at the local level, with the OSC, is preferred.

The following is the revised PREP schedule for calendar years 2000, 2001, and 2002.

Prep Schedule—Government-Led Area Exercises
Area | Agency | Date/qtr ¹ | Participant
Calendar Year 2000
Florida Panhandle Area (MSO Mobile OSC) | CG | 4/10-14 |
EPA Region IX (EPA OSC) | EPA | 7/10-14 |
Northwest Area (MSO Portland OSC) | CG | 8/14-18 |
Western Lake Erie Area (tentative) (MSO Toledo OSC) | CG | 9/18-22 | Sun Oil.
Detroit Area (tentative) (MSO Detroit OSC) | CG | 9/18-22 | Detroit Edison.
North Coast Area (MSO San Francisco OSC) | CG | 12/4-8 |
Calendar Year 2001
SW Louisana/SE Texas Area (MSO Port Arthur OSC) | CG | 1 |
New York, NY Area (Activities NY OSC) | CG | 2 |
Saulte Ste. Marie, MI Area (COTP Saulte Ste. Marie OSC) | CG | 2 |
EPA Region I Area (EPA OSC) | EPA | 3 |
Chicago Area (MSO Chicago OSC) | CG | 3 |
Maryland Coastal Area (Activities Baltimore OSC) | CG | 4 |
Calendar Year 2002
Alabama/Mississippi Area (MSO Mobile OSC) | CG | 1 |
South Florida Area (MSO Miami OSC) | CG | 2 |
Boston Area (MSO Boston OSC) | CG | 2 |
Hawaii/Samoa Area (MSO Honolulu OSC) | CG | 3 |
Central CA Coast Area (MSO San Francisco OSC) | CG | 3 |
EPA Region VIII Area (EPA OSC) | EPA | 4 |

Prep Schedule—Industry-Led Exercises
Area | IND ² | Date/qtr | Lead
Caribbean Area (MSO San Juan OSC) | v |  |
EPA Region III Area (EPA OSC) | f (nonmtr) |  |
Cleveland, OH Area (MSO Cleveland OSC) | f (mtr) |  |
Jacksonville Area (MSO Jacksonville OSC) | v |  |
New Orleans Area (MSO New Orleans OSC) | p |  |
Commonwealth of N. Marianas Islands Area (MSO Guam OSC) | v |  |
EPA Alaska Area (EPA OSC) | f (nonmtr) |  |
EPA Region IV Area (EPA OSC) | f (nonmtr) |  |
Southeast Alaska Area (MSO Juneau OSC) | v |  |
Philadelphia Area (MSO Philadelphia OSC) | f (mtr) |  |
Charleston Area (MSO Charleston OSC) | f (mtr) |  |
EPA Region II (EPA OSC) | f (nonmtr) |  |

Prep Schedule—Industry-Led Exercises
Area | IND ² | Date/qtr | Lead
Calendar Year 2001
Guam Area (MSO Guam OSC) | v
San Diego, CA Area (MSO San Diego OSC) | f
Morgan City Area (MSO Morgan City OSC) | v
EPA Region VII Area (EPA OSC) | f (nonmtr)
Long Island Sound Area (COTP Long Island Sound) | f
Savannah Area (MSO Savannah) | p
Southern Coastal NC Area (MSO Wilmington OSC) | v
San Francisco Bay & Delta Region Area (MSO San Francisco OSC) | f (mtr)
Duluth-Superior Area (MSO Duluth OSC) | f
EPA Region V Area (EPA OSC) | f
South Texas Coastal Zone Area (MSO Corpus Christi OSC) | v
LA/LB North Area (MSO LA/LB OSC) | v
Prince William Sound (MSO Valdez OSC) | p
Calendar Year 2002
Eastern Wisconsin Area (MSO Milwaukee OSC) | v
EPA Oceania Area (EPA OSC) | f (non-mtr)
Eastern Great Lakes Area (MSO Buffalo OSC) | f (mtr)
EPA Region II (EPA OSC) | p
Tampa Area (MSO Tampa OSC) | v
Northwest Area (MSO Puget Sound OSC) | v
Southern LA/LB Area (MSO LA/LB OSC) | f (mtr)
Virginia Coastal Area (MSO Hampton Rds OSC) | f (mtr)
Maine/New Hampshire Area (MSO Portland OSC) | v
EPA Region VI Area (EPA OSC) | f (non-mtr)
Providence Area (MSO Providence OSC) | v
Houston/Galveston Area (MSO Houston/Galveston OSC) | p
¹ Quarters: 1 (Jan-March); 2 (April-June); 3 (July-Sept); 4 (Oct-Dec). Note also that calendar year 2000 exercise areas and dates are fixed. For 2001 and 2002 government-led area exercises, the designated areas are fixed, the actual quarter in which a listed area will be exercised is subject to change based on workload projections in each of those areas as the exercise year approaches.
² Industry: v—vessel; f (mtr)—marine transportation-related facility; f (nonmtr)—nonmarine transportation-related facility; p—pipeline.

Dated: February 25, 2000.
Joseph J. Angelo,
Acting Assistant Commandant for Marine Safety and Environmental Protection.

[FR Doc. 00-5486 Filed 3-6-00; 8:45 am]

BILLING CODE 4910-15-U